INTERNATIONAL TRADE COMMISSION

[Investigation No. 337-TA-1281]

Certain Video Security Equipment and Systems, Related Software, Components Thereof, and Products Containing Same Notice of Commission Determination Not To Review an Initial Determination Granting Complainants' Motion for Leave To Amend the Complaint and Notice of Investigation

AGENCY: U.S. International Trade Commission.

ACTION: Notice.

SUMMARY: Notice is hereby given that the U.S. International Trade Commission has determined not to review an initial determination (“ID”) (Order No. 7) of the presiding administrative law judge (“ALJ”) granting the complainants' motion for leave to amend the complaint and notice of investigation to transfer the asserted patents in this investigation from certain complainants to complainant Motorola Solutions, Inc. and to add Avigilon USA Corporation as an additional complainant.

FOR FURTHER INFORMATION CONTACT: Lynde Herzbach, Office of the General Counsel, U.S. International Trade Commission, 500 E Street SW, Washington, DC 20436, telephone (202) 205-3228. Copies of non-confidential documents filed in connection with this investigation may be viewed on the Commission's electronic docket (EDIS) at https://edis.usitc.gov. For help accessing EDIS, please email EDIS3Help@usitc.gov. General information concerning the Commission may also be obtained by accessing its internet server at https://www.usitc.gov. Hearing-impaired persons are advised that information on this matter can be obtained by contacting the Commission's TDD terminal on (202) 205-1810.

SUPPLEMENTARY INFORMATION: On September 14, 2021, the Commission instituted this investigation under section 337 of the Tariff Act of 1930, as amended, 19 U.S.C. 1337 (“section 337”), based on a complaint filed by Motorola Solutions, Inc. of Chicago, Illinois (“Motorola Solutions”); Avigilon Corporation of British Columbia, Canada; Avigilon Fortress Corporation of British Columbia, Canada; Avigilon Patent Holding 1 Corporation of British Columbia, Canada (“Avigilon Patent Holding”); and Avigilon Technologies Corporation of British Columbia, Canada (collectively, “Complainants”). See 86 FR 51182-83 (Sept. 14, 2021). The complaint alleges a violation of section 337 based upon the importation into the United States, sale for importation, or sale after importation into the United States of certain video security equipment and systems, related software, components thereof, and products containing same by reason of infringement of certain claims of U.S. Patent Nos. 7,868,912 (“the '912 patent”); 10,726,312 (“the '312 patent”); and 8,508,607 (“the '607 patent”) (collectively, “the Asserted Patents”). Id. The complaint further alleges that a domestic industry exists. Id. The notice of investigation names Verkada Inc. of San Mateo, California as the only respondent. Id. The Office of Unfair Import Investigations is also named as a party. Id.

On December 27, 2021, Complainants filed an unopposed motion seeking leave to file an amended complaint and notice of investigation to reflect the transfer of all right, title, and interest in: (1) The '312 patent from Avigilon Corporation to Motorola Solutions; (2) the '912 patent from Avigilon Fortress Corporation to Motorola Solutions; and (3) the '607 patent from Avigilon Patent Holding to Motorola Solutions. The motion also seeks to add a recent new licensee, Avigilon USA Corporation of Dallas, Texas, as an additional complainant.

On December 28, 2021, the ALJ issued the subject ID (Order No. 7) granting Complainants' unopposed motion for leave to amend the complaint and notice of investigation. Order No. 7 (December 28, 2021). The subject ID finds that Complainants' unopposed motion is supported by good cause pursuant to Commission Rule 210.14(b) (19 CFR 210.14(b)) and that there is no prejudice to any party if the motion is granted.

No party petitioned for review of the subject IDs.

The Commission has determined not to review the subject ID (Order No. 7). Complainant Avigilon USA Corporation is added as a complainant to this investigation.

The Commission vote for this determination took place on January 25, 2022.

The authority for the Commission's determination is contained in section 337 of the Tariff Act of 1930, as amended (19 U.S.C. 1337), and in part 210 of the Commission's Rules of Practice and Procedure (19 CFR part 210).

By order of the Commission.
Issued: January 25, 2022.
Lisa Barton,
Secretary to the Commission.

[FR Doc. 2022-01811 Filed 1-27-22; 8:45 am]

BILLING CODE 7020-02-P